DEPARTMENT OF THE TREASURY

Submission for OMB Review; Comment Request

February 21, 2014.

The Department of the Treasury will submit the following information collection requests to the Office of Management and Budget (OMB) for review and clearance in accordance with the Paperwork Reduction Act of 1995, Public Law 104-13, on or after the date of publication of this notice.

DATES: Comments should be received on or before March 28, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by calling (202) 622-1295, emailing PRA@treasury.gov, or the entire information collection request may be found at www.reginfo.gov.

Bureau of the Fiscal Service

OMB Number: 1535-0141.

Type of Review: Revision of a currently approved collection.

Title: Investigative Forms.

Form: PD F 5518, PD F 5519, PD F 5520, and PD F 5521.

Abstract: Information requested is in support of background investigations conducted by the Bureau of the Fiscal Service to determine suitability for employment or security clearance.

Affected Public: Individuals or households.

Estimated Annual Burden Hours: 125.

Brenda Simms,
Treasury PRA Clearance Officer.

[FR Doc. 2014-04149 Filed 2-25-14; 8:45 am]

BILLING CODE 4810-39-P